DEPARTMENT OF JUSTICE

Office of Justice Programs

[OJP (OJJDP) No. 1419]

Notice of Proposed Award of Funds for Nonparticipating State Program, Wyoming

AGENCY: Office of Juvenile Justice and Delinquency Prevention, Office of Justice Programs, Justice.

ACTION: Notice of Intention to Award Formula Grant Funds.

SUMMARY: The purpose of this Notice is to announce the Office of Juvenile Justice and Delinquency Prevention's intention to award formula grant funds, under Section 221 of the Juvenile Justice and Delinquency Prevention Act, 42 U.S.C. 5633(d), to the Wyoming County Commissioner's Association. These funds will be awarded on a non-competitive basis, absent the submission of any expression of interest in the subject funding by another eligible entity. This publication is intended to comply with the requirements set forth in 42 U.S.C. 5633(d) and 28 CFR 31.301(e).

DATES: Expressions of Interest must be submitted in writing, and must be received by OJJDP by November 28, 2005. Postmark dates will not be accepted as proof of meeting the deadline.

ADDRESSES: All application packages should be mailed or delivered to the State Relations and Assistance Division, Office of Juvenile Justice and Delinquency Prevention, 810 Seventh Street, NW., Washington, DC 20531; or faxed to 202-307-2819.

FOR FURTHER INFORMATION CONTACT: Elissa Rumsey, Compliance Monitoring Coordinator, State Relations and Assistance Division, Office of Juvenile Justice and Delinquency Prevention, 202-307-5924; e-mail: Elissa.Rumsey@usdoj.gov.

SUPPLEMENTARY INFORMATION: Title II, Part B of the Juvenile Justice and Delinquency Prevention Act of 2002 (JJDPA), 42 U.S.C. 5631-5633, makes formula grant funding available to the states for the juvenile justice purposes set forth in 42 U.S.C. 5633(a).

For states that choose not to submit a § 5633(a) plan or fail to submit such a plan, the Administrator of the Office of Juvenile Justice and Delinquency Prevention (OJJDP) is authorized to make available, to local public and private nonprofit agencies within that state, formula funding for use in carrying out the core requirement activities specified in 42 U.S.C. 5633(a)(11),(12),(13) and (22). The purpose of this notice is to publish OJJDP's intent to make such an award, pursuant to the authority set forth in 42 U.S.C. 5633(d). This publication is intended to comply with the requirements set forth in 42 U.S.C. 5633(d) and 28 CFR 31.301(e).

Authority: 42 U.S.C. 5633(d).

Notice: OJJDP hereby declares the agency's intention to award $1,229,950 in FY 2003-04 formula grant funds, available for the benefit of the State of Wyoming, pursuant to 42 U.S.C. 5633(d), to the Wyoming County Commissioner's Association (WCCA). OJJDP issued an initial formula grant award to WCCA in FY 1998, and since that time has not been aware of any other applicant eligible to apply for and receive the subject funding. Unless OJJDP receives from another eligible entity an expression of interest in applying for the subject funding, this publication shall serve as formal notice of the issuance of the above described award to WCCA. Any such expressions of interest must be communicated in writing and received by OJJDP by November 28, 2005.

Any entity submitting an expression of interest, in response to this Notice, must provide the following information:

(1) Documentation of current and past experience with data collection and analysis pursuant to sections 223(a) (11), (12), and (13) of the JJDPA; and demonstration of ability to maintain an infrastructure to continue such collection and analysis.

(2) Data showing Wyoming's rates of compliance with sections 223(a) (11), (12), and (13) of the JJDPA.

(3) Documentation of efforts towards creating and implementing legislation and judicial policy related to sections 223(a) (11), (12), and (13) of the JJDPA and related regulations.

(4) Documentation of ability and experience in providing training and technical assistance to local law enforcement and detention facility staff regarding the relevant sections of the JJDPA.

Information provided in response to this Notice will be used by OJJDP to determine whether or not it would be appropriate to award the subject funding on a competitive basis.

Dated: October 19, 2005.
J. Robert Flores,
Administrator, Office of Juvenile Justice and Delinquency Prevention.

[FR Doc. 05-21425 Filed 10-26-05; 8:45 am]

BILLING CODE 4410-18-P